DEPARTMENT OF THE INTERIOR

Bureau of Land Management

[CA-010-1220-00]

Meeting of the Central California Resource Advisory Council

AGENCY: Bureau of Land Management, Department of the Interior.

ACTION: Meeting of the Central California Resource Advisory Council.

SUMMARY: Pursuant to the authorities in the Federal Advisory Committee Act (Pub. L. 92-463) and the Federal Land Policy and Management Act of 1976 (sec. 309), the Bureau of Land Management Resource Advisory Council for Central California will meet at the Cameron Park Inn.

DATES: Friday and Saturday, March 10-11, 2000.

ADDRESSES: 3361 Coach Lane, Cameron Park, CA. Take the Cameron Park Drive exit from Highway 50 and the hotel is right there.

SUPPLEMENTARY INFORMATION: The 12 member Central California Resource Advisory Council is appointed by the Secretary of the Interior to advise the Bureau of Land Management on public land issues. The Council will hear reports on the possibility of Monument designation of some BLM lands, a report from its recreation committee on recreation issues on BLM lands, a report on grazing issues, discuss land exchanges, and go on a field trip to the South Fork of the American River. The public is invited to attend this meeting which begins at 8 a.m. both days. Those wishing to participate in the field trip must provide their own transportation. Time will be set aside both Friday and Saturday for public comment. Anyone may discuss any public land issue with the council at that time. Written comments will be accepted at the meeting, or at the address below.

FOR FURTHER INFORMATION CONTACT: Larry Mercer, Public Affairs Officer, Bureau of Land Management, 3801 Pegasus Drive, Bakersfield, CA 93308, telephone 661-391-6010.

Dated: February 17, 2000.
Carol Bustos,
Acting Field Office Manager.

[FR Doc. 00-4544 Filed 2-25-00; 8:45 am]

BILLING CODE 4310-40-M